DEPARTMENT OF COMMERCE

International Trade Administration

[A-421-807]

Notice of Amended Antidumping Duty Order; Certain Hot-Rolled Carbon Steel Flat Products From The Netherlands

AGENCY: Import Administration, International Trade Administration, Department of Commerce.

ACTION: Notice of amended antidumping duty order.

SUMMARY: On November 29, 2001, the Department of Commerce (the Department) published the antidumping duty order on certain hot-rolled carbon steel flat products (hot-rolled steel) from the Netherlands. See Antidumping Duty Order: Certain Hot-Rolled Carbon Steel Flat Products From the Netherlands, 66 FR 59565 (November 29, 2001). As a result of the Court of International Trade's (the Court's) decisions in Corus Staal BV, et al. v. United States, 283 F. Supp. 2d 1357 (CIT 2003) (Corus Staal BV III) and Corus Staal BV, et al. v. United States, 279 F. Supp. 2d 1363 (CIT 2003) (Corus Staal BV II), we are publishing this notice of amended antidumping duty order.

FOR FURTHER INFORMATION CONTACT: Deborah Scott (202) 482-2657 or Robert James at (202) 482-0649, Antidumping and Countervailing Duty Enforcement Group III, Import Administration, International Trade Administration, U.S. Department of Commerce, 14th Street and Constitution Avenue, NW., Washington, DC 20230.

EFFECTIVE DATE: December 23, 2003.

SUPPLEMENTARY INFORMATION:

Scope of the Order

For purposes of this order, the products covered are certain hot-rolled carbon steel flat products of a rectangular shape, of a width of 0.5 inch or greater, neither clad, plated, nor coated with metal and whether or not painted, varnished, or coated with plastics or other non-metallic substances, in coils (whether or not in successively superimposed layers), regardless of thickness, and in straight lengths, of a thickness of less than 4.75 mm and of a width measuring at least 10 times the thickness. Universal mill plate (i.e., flat-rolled products rolled on four faces or in a closed box pass, of a width exceeding 150 mm, but not exceeding 1250 mm, and of a thickness of not less than 4.0 mm, not in coils and without patterns in relief) of a thickness not less than 4.0 mm is not included within the scope of this order. Specifically included within the scope of this order are vacuum degassed, fully stabilized (commonly referred to as interstitial-free (IF)) steels, high strength low alloy (HSLA) steels, and the substrate for motor lamination steels. IF steels are recognized as low carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products to be included in the scope of this order, regardless of definitions in the Harmonized Tariff Schedule of the United States (HTS), are products in which: (i) Iron predominates, by weight, over each of the other contained elements; (ii) the carbon content is 2 percent or less, by weight; and (iii) none of the elements listed below exceeds the quantity, by weight, respectively indicated:

1.80 percent of manganese, or

2.25 percent of silicon, or

1.00 percent of copper, or

0.50 percent of aluminum, or

1.25 percent of chromium, or

0.30 percent of cobalt, or

0.40 percent of lead, or

1.25 percent of nickel, or

0.30 percent of tungsten, or

0.10 percent of molybdenum, or

0.10 percent of niobium, or

0.15 percent of vanadium, or

0.15 percent of zirconium.

All products that meet the physical and chemical description provided above are within the scope of this order unless otherwise excluded. The following products, by way of example, are outside or specifically excluded from the scope of this order:

Alloy hot-rolled steel products in which at least one of the chemical elements exceeds those listed above (including, e.g., ASTM specifications A543, A387, A514, A517, A506).

Society of Automotive Engineers (SAE)/American Iron and Steel Institute (AISI) grades of series 2300 and higher.

Ball bearings steels, as defined in the HTS.

Tool steels, as defined in the HTS.

Silico-manganese (as defined in the HTS) or silicon electrical steel with a silicon level exceeding 2.25 percent.

ASTM specifications A710 and A736.

USS Abrasion-resistant steels (USS AR 400, USS AR 500).

All products (proprietary or otherwise) based on an alloy ASTM specification (sample specifications: ASTM A506, A507).

Non-rectangular shapes, not in coils, which are the result of having been processed by cutting or stamping and which have assumed the character of articles or products classified outside chapter 72 of the HTS.

The merchandise subject to this order is classified in the HTS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled flat-rolled carbon steel flat products covered by this order, including: vacuum degassed fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00. Although the HTS subheadings are provided for convenience and U.S. Customs purposes, the written description of the merchandise under this order is dispositive.

Amended Antidumping Duty Order

In accordance with section 735(a) of the Tariff Act of 1930, as amended (Tariff Act), the Department published its final determination that sales of hot-rolled steel from the Netherlands were being made at less than fair value in the United States. See Notice of Final Determination of Sales at Less Than Fair Value: Certain Hot-Rolled Carbon Steel Flat Products, 66 FR 50408 (October 3, 2001) and accompanying Issues and Decision Memorandum, as amended, Notice of Amended Final Determination of Sales at Less Than Fair Value: Certain Hot-Rolled Carbon Steel Flat Products, 66 FR 55637 (November 2, 2001) (collectively, Final Determination). On November 13, 2001, the International Trade Commission notified the Department of its final determination pursuant to section 735(b)(1)(A)(i) of the Tariff Act that an industry in the United States is materially injured by reason of less-than-fair-value imports of certain hot-rolled steel from the Netherlands. On November 29, 2001, the Department published in the Federal Register the antidumping duty order on hot-rolled steel from the Netherlands. See Antidumping Duty Order: Certain Hot-Rolled Carbon Steel Flat Products From the Netherlands, 66 FR 59565 (November 29, 2001) (Antidumping Duty Order).

Subsequent to the publication of the Department's antidumping duty order, the petitioners (National Steel Corporation, Bethlehem Steel Corporation, and United States Steel Corporation) and the respondent (Corus Staal BV and Corus Steel USA Inc. (collectively, Corus)) challenged certain aspects of the Department's Final Determination before the Court. In addition, the Department requested a voluntary remand with respect to the inadvertent omission of the proper language from the antidumping duty order to cease collection of provisional measures six months after the publication of the preliminary determination, in accordance with section 733(d) of the Tariff Act. On March 7, 2003, the Court issued a remand order to the Department for the sole purpose of revising its antidumping duty order to preclude collection of provisional measures beyond the six-month period pursuant to section 733(d) of the Tariff Act, and also to explain its practice of interpreting the provisional measures time period, i.e., in calendar months or the equivalent in six 30-day periods. See Corus Staal BV v. United States, 259 F. Supp. 2d 1253 (CIT 2003). See Certain Hot-Rolled Carbon Steel Flat Products From the Netherlands: Notice of Final Court Decision and Suspension of Liquidation, 68 FR 60912 (October 24, 2003) for a summary of the ensuing litigation.

On September 29, 2003, the Court affirmed the Department's remand determination and entered a final judgment order in regards to the Final Determination and Antidumping Duty Order. See Corus Staal BV III; see also Corus Staal BV II. As a result, the Department is now amending the antidumping duty order on hot-rolled steel from the Netherlands to lift suspension of liquidation 180 days from the date of publication of the preliminary determination in the Federal Register until the date of publication of the Antidumping Duty Order. Because the preliminary determination was published on May 3, 2001, and the Antidumping Duty Order was published on November 29, 2001, the Department will issue instructions to Customs and Border Protection (Customs) to terminate suspension of liquidation of all entries of subject merchandise made between October 30, 2001, and November 28, 2001, inclusive, without regard to antidumping duties (i.e., release all bonds and refund all cash deposits). In addition, in accordance with section 736(a)(1) of the Tariff Act, the Department will also instruct Customs to resume collection, effective November 29, 2001, of a cash deposit equal to the estimated weighted-average antidumping duty margins published in the Final Determination. Effective November 29, 2001, Customs officers must require, at the same time as importers would normally deposit estimated duties on this merchandise, a cash deposit equal to the estimated weighted-average antidumping duty margins as noted below. The “All Others” rate applies to all exporters of subject hot-rolled steel from the Netherlands not specifically listed. The weighted-average dumping margins are as follows:

Producer/manufacturer/ exporter | Cash deposit rate (percent)
Corus Staal BV | 2.59
All Others | 2.59

This notice constitutes the amended antidumping duty order with respect to certain hot-rolled carbon steel flat products from the Netherlands. Interested parties may contact the Department's Central Records Unit, room B-099 of the main Commerce building, for copies of an updated list of antidumping duty orders currently in effect.

This amended order is published in accordance with section 736(a) of the Tariff Act of 1930, as amended.

Dated: December 16, 2003.
James J. Jochum,
Assistant Secretary for Import Administration.

[FR Doc. E3-00616 Filed 12-22-03; 8:45 am]

BILLING CODE 3510-DR-S